DEPARTMENT OF AGRICULTURE

Forest Service

Willamette Province Advisory Committee

AGENCY: Forest Service, USDA.

ACTION: Notice of meeting.

SUMMARY: The Williamette Province Advisory Committee (PAC) will meet in Salem, Oregon. The purpose of the meeting is to discuss issues pertainent to the implementation of the Northwest Forest Plan and to provide advice to federal land managers in the Province. The specific topics to be covered at the meeting include background information of he Northwest Forest Plan for new members and updated on the on-going revisions to the NFP.

DATES: The meeting will be held April, 17, 2003.

ADDRESSES: The meeting will be held at the Salem District Office of the Bureau of Land Management, 1717 Farby Road, Salem, Oregon. Send written comments to Neal Forrester, Willamette Province Advisory Committee, c/o Willamette National Forest, P.O. Box 106078, Eugene, Oregon 97440, (541) 225-6436 or electronically to nforrester@fs.fed.us.

FOR FURTHER INFORMATION CONTACT: Neal Forrester, William National Forest, (541) 225-6436.

SUPPLEMENTARY INFORMATION: The meeting is open to the public. Committee discussion is limited to PAC members. However, persons who wish to bring matters to the attention of the Community may file written statements with the PAC staff before or after the meeting. A public forum will be provided and individuals will have the opportunity to address the PAC. Oral comments will be limited to three minutes.

Dated: March 27, 2003.
Dallas J. Emich,
Forest Supervisor, Willamette National Forest.

[FR Doc. 03-8061 Filed 4-2-03; 8:45 am]

BILLING CODE 3410-11-M